DEPARTMENT OF TRANSPORTATION

Federal Aviation Administration

Ninth Meeting: RTCA Special Committee 206/EUROCAE WG 76 Plenary

AGENCY: Federal Aviation Administration (FAA), DOT.

ACTION: Notice of RTCA Special Committee 206 meeting.

SUMMARY: The FAA is issuing this notice to advise the public of a meeting of RTCA Special Committee 206: Aeronautical Information Services Data Link.

DATES: The meeting will be held March 31-April 4, 2008 from 9 a.m. to 5 p.m.

ADDRESSES: The meeting will be held at Honeywell, 21111 North 19th Avenue, Phoenix, AZ 85036-1111.

FOR FURTHER INFORMATION CONTACT: (1) RTCA Secretariat, 1828 L Street, NW., Suite 805, Washington, DC, 20036-5133; telephone (202) 833-9339; fax (202) 833-9434; Web site http://www.rtca.org; (2) Contact Person: Allan Hart, Telephone 1-609-436-1908; Fax 1-609-436-1501.

SUPPLEMENTARY INFORMATION: Pursuant to section 10(a)(2) of the Federal Advisory Committee Act (Pub. L. 92-463, 5 U.S.C., Appendix 2), notice is hereby given for a Special Committee 206 meeting/EUROCE WG 76. The agenda will include:

March 31

• 9 a.m.—Open Plenary

• Chairman's remarks and introductions

• Review and approve meeting agenda and minutes

• Discussion

• Coordination with WG78/SC214

• Action Item Review

• Schedule for this week

• Schedule for next meetings

• 10 a.m.—Presentations

• Pending

• 11 a.m.

• SPR and INTEROP

April 1

• AIS Subgroup meeting—Meteorology Subgroup meetings

April 2

• 9 a.m.

• Subgroup 1 and Subgroup 2 Meetings

April 3

• Subgroup 1 and Subgroup 2 Meetings

Apri1 4

• 9 a.m.

• Subgroup 1 and Subgroup 2 Meetings

• 10:30 p.m.

• Plenary Session

• Other Business, Meeting Plans and Dates, Closing Remarks, Adjourn

Attendance is open to the interested public but limited to space availability. With the approval of the chairmen, members of the public may present oral statements at the meeting. Persons wishing to present statements or obtain information should contact the person listed in the FOR FURTHER INFORMATION CONTACT section. Members of the public may present a written statement to the committee at any time.

Issued in Washington, DC, on February 29, 2008.
Francisco Estrada C.,
RTCA Advisory Committee.

[FR Doc. E8-4518 Filed 3-7-08; 8:45 am]

BILLING CODE 4910-13-M